DEPARTMENT OF JUSTICE

Notice of Lodging of Consent Decree Under the Comprehensive Environmental Response, Compensation, and Liability Act (“CERCLA”)

Notice is hereby given that on August 6, 2010 a proposed consent decree (“proposed Decree”) in United States v. Central Rubber Co., et al., C.A. No. 3:10-cv-50193, was lodged with the United States District Court for the Northern District of Illinois.

In this action under Section 107(a) of the Comprehensive Environmental Response, Compensation, and Liability Act, 42 U.S.C. 9607(a) (“CERCLA”), the United States sought to recover response costs incurred or to be incurred by the United States as a result of releases and threatened releases of hazardous substances from the manufacturing facilities owned or operated by Central Rubber Company, Woodhead Industries, Inc., Textron, Inc., Camcar LLC, and Johns Manville (the “Settling Defendants”) located at the Parsons Casket Hardware Superfund Site, in Belvidere, Boone County, Illinois. The proposed Decree requires the Settling Defendants to pay $3.6 million to the United States in reimbursement of past and future response costs, and provides the defendants with a covenant not to sue under Sections 106 and 107(a) of CERCLA, 42 U.S.C. 9606 and 9607(a), for “Covered Response Actions” and “Covered Response Costs.” The Decree also requires Owner Settling Defendants (those defendants who own real property within the Superfund Site), to provide access to their properties to the United States Environmental Protection Agency which will be performing the remedial action at the Site, to cooperate with U.S. EPA in its performance of the remedy, and to prepare and record Environmental Restrictive Covenants which grant certain Proprietary Controls to the State of Illinois and U.S. EPA to facilitate performance of the remedial action.

The Department of Justice will receive for a period of thirty (30) days from the date of this publication comments relating to the proposed Decree. Comments should be addressed to the Assistant Attorney General, Environment and Natural Resources Division, and either e-mailed to pubcomment-ees.enrd@usdoj.gov or mailed to P.O. Box 7611, U.S. Department of Justice, Washington, DC 20044-7611, and should refer to United States v. Central Rubber Co., et al., D.J. Ref. 90-11-3-09324.

The proposed Decree may be examined at the Office of the United States Attorney for the Northern District of Illinois, 219 South Dearborn Street, Suite 500, Chicago, Illinois 60604, or the United States Environmental Protection Agency (Region 5), 77 West Jackson Boulevard, Chicago, Illinois 60604. During the public comment period, the proposed Decree may also be examined on the following Department of Justice Web site: http://www.usdoj.gov/enrd/ConsentDecrees.html. A copy of the proposed Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $48.25 (25 cents per page reproduction cost) payable to the U.S. Treasury or, if by e-mail or fax, forward a check in that amount to the Consent Decree Library at the stated address.

Maureen Katz,
Assistant Chief, Environmental Enforcement Section, Environment and Natural Resources Division.

[FR Doc. 2010-20115 Filed 8-13-10; 8:45 am]

BILLING CODE 4410-15-P